DEPARTMENT OF HOUSING AND URBAN DEVELOPMENT

24 CFR Part 28

[Docket No. FR-6196-C-02]

Adjustment of Civil Monetary Penalty Amounts for 2020; Correction

AGENCY: Office of General Counsel, HUD.

ACTION: Final rule; correcting amendment.

SUMMARY: On March 6, 2020, HUD published its Adjustment of Civil Monetary Penalty Amounts for 2020 final rule. Subsequently, when HUD published its 2021 Civil Monetary Penalty final rule, HUD became aware of an error in the codification of the 2020 rule. As a result, HUD is publishing this rule to correct the earlier codification error.

DATES: Effective June 15, 2021.

FOR FURTHER INFORMATION CONTACT: Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Relay at 800-877-8339 (this is a toll-free number).

SUPPLEMENTARY INFORMATION: Revisions to HUD's civil money penalty amounts are required annually by the Federal Civil Penalties Inflation Adjustment Act of 1990,¹ as amended by the Federal Civil Penalties Inflation Adjustment Act Improvements Act of 2015.²

¹ Public Law 101-410.

² Public Law 114-74, Sec. 701.

On March 6, 2020 (85 FR 13041), HUD published its Adjustment of Civil Monetary Penalty Amounts for 2020 final rule. In that rule, HUD's amendatory instructions for 24 CFR 28.10 directed the Federal Register to “[r]evise paragraphs (a)(1) introductory text and (b)(1) introductory text.” HUD used this amendatory instruction in publishing its annual civil money penalty adjustment final rules in 2017 (May 30, 2017, 82 FR 24521), 2018 (July 16, 2018, 83 FR 32790), and 2019 (March 15, 2019, 84 FR 9451).

Subsequent to HUD's publication of its Adjustment of Civil Monetary Penalty Amounts for 2021 final rule (March 16, 2021, 86 FR 14370), however, HUD became aware of an error in the codification of 24 CFR 28.10. Section 28.10 provides the basis for civil penalties and assessments under the Program Fraud Civil Remedies Act of 1986.³ Specifically, HUD determined that paragraph (a)(1)(i), which provides that a civil penalty may be imposed when a claim is made that “is false, fictitious, or fraudulent,” failed to codify.

³ Since the enactment of the Program Fraud Civil Remedies Act of 1986 (31 U.S.C.S. 3801, et seq.), HUD has direct statutory authority to impose civil money penalties in the case of false, fictitious, or fraudulent claims. HUD has this authority regardless of the language in 24 CFR 28.10.

To correct this error in the codification of HUD's Adjustment of Civil Monetary Penalty Amounts for 2020 final rule, this rule recodifies 24 CFR 28.10(a)(1)(i).

List of Subjects in 24 CFR Part 28

Administrative practice and procedure, Claims, Fraud, Penalties.

Accordingly, 24 CFR part 28 is corrected by making the following correcting amendment:

PART 28—IMPLEMENTATION OF THE PROGRAM FRAUD CIVIL REMEDIES ACT OF 1986

1. The authority citation for part 28 continues to read as follows:

Authority: 28 U.S.C. 2461 note; 31 U.S.C. 3801-3812; 42 U.S.C. 3535(d).

2. Amend § 28.10 by adding paragraph (a)(1)(i) to read as follows:

§ 28.10 Basis for civil penalties and assessments.

(a) * * *

(1) * * *

(i) Is false, fictitious, or fraudulent;

* * * * *

Aaron Santa Anna,
Associate General Counsel for Legislation and Regulations.

[FR Doc. 2021-12452 Filed 6-14-21; 8:45 am]

BILLING CODE 4210-67-P